DEPARTMENT OF ENERGY

Federal Energy Regulatory Commission

Combined Notice of Filings #1

Take notice that the Commission received the following electric corporate filings:

Docket Numbers: EC19-106-000.

Applicants: Chief Conemaugh Power II, LLC, Chief Keystone Power II, LLC, PSEG Fossil LLC.

Description: Joint Application for Authorization Under Section 203 of the Federal Power Act, et al. of Chief Conemaugh Power II, LLC, et al.

Filed Date: 6/26/19.

Accession Number: 20190626-5351.

Comments Due: 5 p.m. ET 7/17/19.

Docket Numbers: EC19-107-000.

Applicants: Stanton Equity Trading Delaware LLC.

Description: Application for Authorization Under Section 203 of the Federal Power Act, et al. of Stanton Equity Trading Delaware LLC.

Filed Date: 6/26/19.

Accession Number: 20190626-5353.

Comments Due: 5 p.m. ET 7/17/19.

Take notice that the Commission received the following electric rate filings:

Docket Numbers: ER10-2756-007.

Applicants: Griffith Energy LLC.

Description: Triennial Compliance Filing under Order Nos. 697 and 816, et al. of Griffith Energy LLC.

Filed Date: 6/26/19.

Accession Number: 20190626-5347.

Comments Due: 5 p.m. ET 8/26/19.

Docket Numbers: ER10-2757-008; ER11-3051-004.

Applicants: Arlington Valley, LLC, Macho Springs Power I, LLC.

Description: Triennial Market Power Update of Arlington Valley, LLC, et al.

Filed Date: 6/27/19.

Accession Number: 20190627-5114.

Comments Due: 5 p.m. ET 8/26/19.

Docket Numbers: ER10-2794-030; ER14-2672-015; ER12-1825-028.

Applicants: EDF Trading North America, LLC, EDF Energy Services, LLC, EDF Industrial Power Services (CA), LLC.

Description: Updated Market Power Analysis for the Southwest Region of the EDF Sellers, et al.

Filed Date: 6/27/19.

Accession Number: 20190627-5138.

Comments Due: 5 p.m. ET 8/26/19.

Docket Numbers: ER10-3028-005; ER10-2538-010; ER4-1317-009.

Applicants: Panoche Energy Center, LLC, Sunshine Gas Producers, LLC, Elk Hills Power, LLC.

Description: Triennial Compliance Filing under Order Nos. 697 and 816, et al. of Elk Hills Power, LLC, et al.

Filed Date: 6/27/19.

Accession Number: 20190627-5101.

Comments Due: 5 p.m. ET 8/26/19.

Docket Numbers: ER13-1562-007; ER10-2488-017; ER12-1931-008; ER10-2504-009; ER12-610-009; ER13-338-007.

Applicants: Catalina Solar Lessee, LLC, Oasis Power Partners, LLC, Pacific Wind Lessee, LLC, Shiloh Wind Project 2, LLC, Shiloh III Lessee, LLC, Shiloh IV Lessee, LLC.

Description: 2019 Triennial Market Power Update Filing for the Southwest Region of EDFR Southwest Sellers, et al.

Filed Date: 6/26/19.

Accession Number: 20190626-5362.

Comments Due: 5 p.m. ET 8/26/19.

Docket Numbers: ER19-2268-000.

Applicants: Arlington Valley, LLC.

Description: § 205(d) Rate Filing: Triennial Market Power Update and Amendment to Market-Based Rate to be effective 6/28/2019.

Filed Date: 6/27/19.

Accession Number: 20190627-5042.

Comments Due: 5 p.m. ET 8/26/19.

Docket Numbers: ER19-2269-000.

Applicants: Dougherty County Solar, LLC.

Description: Baseline eTariff Filing: Dougherty County Solar, LLC Application for Market-Based Rates to be effective 8/27/2019.

Filed Date: 6/27/19.

Accession Number: 20190627-5059.

Comments Due: 5 p.m. ET 7/18/19.

Docket Numbers: ER19-2270-000.

Applicants: San Diego Gas & Electric Company.

Description: § 205(d) Rate Filing: Appendix XII Protocols to be effective 6/1/2019.

Filed Date: 6/27/19.

Accession Number: 20190627-5109.

Comments Due: 5 p.m. ET 7/18/19.

Docket Numbers: ER19-2271-000.

Applicants: Midcontinent Independent System Operator, Inc., ALLETE, Inc.

Description: § 205(d) Rate Filing: 2019-06-27_SA 3326 MP-BPU T-T (Brainerd) to be effective 7/1/2019.

Filed Date: 6/27/19.

Accession Number: 20190627-5112.

Comments Due: 5 p.m. ET 7/18/19.

Docket Numbers: ER19-2272-000.

Applicants: Public Service Company of Colorado.

Description: § 205(d) Rate Filing: Comanche Regulatory Asset in Rate Base—9/1/18 to be effective 9/1/2018.

Filed Date: 6/27/19.

Accession Number: 20190627-5137.

Comments Due: 5 p.m. ET 7/18/19.

Docket Numbers: ER19-2273-000.

Applicants: Sunflower Electric Power Corporation, Southwest Power Pool, Inc.

Description: § 205(d) Rate Filing: Sunflower Formula Rate Revisions and Merger of Mid-Kansas into Sunflower to be effective 12/31/9998.

Filed Date: 6/27/19.

Accession Number: 20190627-5140.

Comments Due: 5 p.m. ET 7/18/19.

Docket Numbers: ER19-2274-000.

Applicants: PPL Electric Utilities Corporation, PJM Interconnection, L.L.C.

Description: § 205(d) Rate Filing: PPL Electric submits revisions to the OATT, Attachment H-8A re: Income Tax Rate to be effective 9/1/2019.

Filed Date: 6/27/19.

Accession Number: 20190627-5176.

Comments Due: 5 p.m. ET 7/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2019.
Nathaniel J. Davis, Sr.,
Deputy Secretary.

[FR Doc. 2019-14203 Filed 7-2-19; 8:45 am]

BILLING CODE 6717-01-P